ENVIRONMENTAL PROTECTION AGENCY

Toxics Release Inventory—Decision To Maintain Existing Reporting Frequency

AGENCY: Environmental Protection Agency (EPA).

ACTION: Notice.

SUMMARY: This notice announces EPA's decision to maintain the annual reporting requirement for the Toxics Release Inventory (TRI). This announcement is being made in follow-up to an October 4, 2005, Federal Register notice that stated that EPA intended to explore potential approaches for modifying the TRI reporting frequency (70 FR 57871). The Agency has decided not to pursue any changes in the TRI reporting frequency.

FOR FURTHER INFORMATION CONTACT: Suzanne Ackerman, ackerman.suzanne@epa.gov, 202-564-4355, Office of Public Affairs.

SUPPLEMENTARY INFORMATION: The Emergency Planning and Community Right-to-Know Act (EPCRA), section 313(i), requires EPA to notify Congress of its intent to modify the TRI reporting frequency, before initiating a rulemaking. 42 U.S.C. 11023(i). The Agency must delay the initiation of the rulemaking for at least 12 months, but no more than 24 months, after the date of the notification.

On September 21, 2005, EPA notified Congress of its intent to explore potential approaches for modifying the reporting frequency for facilities that report to TRI. Alternate year reporting was one of the options that EPA mentioned in the notice. Before changing the reporting frequency, EPCRA section 313(i)(2) requires the Agency to make a finding that such a change would be consistent with the purposes of the TRI Program as listed in EPCRA section 313(h). This finding must be based on experience from previously submitted toxic chemical release forms and three determinations, as stated in EPCRA section 313(i)(1), (2), and (3): (1) The extent to which information relating to the proposed modification provided on the toxic chemical release forms has been used by the Administrator or other agencies of the Federal Government, States, local governments, health professionals, and the public; (2) the extent to which the information is readily available to potential users from other sources, such as State reporting programs, and provided to the Administrator under another Federal law or through a State program; and (3) the extent to which the modification would impose additional and unreasonable burdens on facilities subject to the reporting requirements under this section. 42 U.S.C. 11023(i)(2) and (3).

In a November 28, 2006, letter to Senator Lautenberg, the Administrator announced that the Agency has decided against moving forward with any changes to TRI reporting frequency. While the Agency does not intend to take any further actions concerning reporting frequency, EPA will adhere to the process outlined in 42 U.S.C. 11023(i)(5) and provide 12 months advance notice to Congress should the Agency in the future decide to initiate changes to reporting frequency.

Dated: December 18, 2006.
Linda A. Travers,
Acting Assistant Administrator for the Office of Environmental Information and Chief Information Officer.

[FR Doc. E6-21957 Filed 12-21-06; 8:45 am]

BILLING CODE 6560-50-P